NUCLEAR REGULATORY COMMISSION

Sunshine Act Federal Register Notice

Agency Holding the Meetings: Nuclear Regulatory Commission.

Date: Weeks of July 31, August 7, 14, 21, 28, September 4, 2006.

Place: Commissioners' Conference Room, 11555 Rockville Pike, Rockville, Maryland.

Status: Public and closed.

Matters To Be Considered:

Week of July 31, 2006

There are no meetings scheduled for the Week of July 31, 2006.

Week of August 7, 2006—Tentative

There are no meetings scheduled for the Week of August 7, 2006.

Week of August 14, 2006—Tentative

There are no meetings scheduled for the Week of August 14, 2006.

Week of August 21, 2006—Tentative

There are no meetings scheduled for the Week of August 21, 2006.

Week of August 28, 2006—Tentative

There are no meetings scheduled for the Week of August 28, 2006.

Week of September 4, 2006—Tentative

There are no meetings scheduled for the Week of September 4, 2006.

The schedule for Commission meetings is subject to change on short notice. To verify the status of meetings, call (recording)—(301) 415-1292. Contact person for more information: Michelle Schroll, (301) 415-1662.

The NRC Commission Meeting Schedule can be found on the Internet at: http://www.nrc.gov/what-we-do/policy-making/schedule.html.

The NRC provides reasonable accommodation to individuals with disabilities where appropriate. If you need a reasonable accommodation to participate in these public meetings, or need this meeting notice or the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

This notice is distributed by mail to several hundred subscribers; if you no longer wish to receive it or would like to be added to the distribution, please contact the Office of the Secretary, Washington, DC 20555 (301-415-1969). In addition, distribution of this meeting notice over the Internet system is available. If you are interested in receiving this Commission meeting schedule electronically, please send an electronic message to dkw@nrc.gov.

Dated: July 27, 2006.
Sandy Joosten,
Office of the Secretary.

[FR Doc. 06-6628 Filed 7-28-06; 9:47 am]

BILLING CODE 7590-01-M